DEPARTMENT OF COMMERCE

National Oceanic and Atmospheric Administration

50 CFR Part 300

[Docket No. 240327-0090; RTID 0648-XE043]

Pacific Halibut Fisheries of the West Coast; 2024 Catch Sharing Plan; Inseason Action

AGENCY: National Marine Fisheries Service (NMFS), National Oceanic and Atmospheric Administration (NOAA), Commerce.

ACTION: Temporary rule; inseason adjustment; request for comments.

SUMMARY: NMFS announces inseason action for the Oregon Central Coast subarea in the Pacific halibut recreational fishery in the International Pacific Halibut Commission's (IPHC) regulatory Area 2A. Specifically, this action announces that the Oregon Central Coast subarea's spring all-depth fishery will be open 7 days per week from July 1 through July 31. This action is intended to provide opportunity for anglers to achieve the catch limit in the Pacific Fishery Management Council's (Council) 2024 Pacific Halibut Catch Sharing Plan.

DATES:

Effective date: July 1, 2024, through July 31, 2024.

Comment date: Comments will be accepted on or before July 11, 2024.

ADDRESSES: Submit your comments, identified by NOAA-NMFS-2024-0014, by either of the following methods:

• Electronic Submission: Submit all electronic public comments via the Federal e-Rulemaking Portal. Go to https://www.regulations.gov and enter NOAA-NMFS-2024-0014 in the Search box. Click on the “Comment” icon, complete the required fields, and enter or attach your comments.

• Mail: Submit written comments to Jennifer Quan, Regional Administrator, c/o Melissa Mandrup, West Coast Region, NMFS, 501 W Ocean Blvd., Long Beach, CA 90802.

Instructions: NMFS may not consider comments if they are sent by any other method, to any other address or individual, or received after the comment period ends. All comments received are a part of the public record and NMFS will post them for public viewing on https://www.regulations.gov without change. All personal identifying information (e.g., name, address, etc.), confidential business information, or otherwise sensitive information submitted voluntarily by the sender is publicly accessible. NMFS will accept anonymous comments (enter “N/A” in the required fields if you wish to remain anonymous).

Docket: This rule is accessible via the internet at the Office of the Federal Register website at https://www.federalregister.gov/. Background information and documents are available at the NOAA Fisheries website at https://www.fisheries.noaa.gov/action/2024-pacific-halibut-recreational-fishery and at the Council's website at https://www.pcouncil.org. Other comments received may be accessed through https://www.regulations.gov.

FOR FURTHER INFORMATION CONTACT: Melissa Mandrup, phone: 562-980-3231 or email: melissa.mandrup@noaa.gov.

SUPPLEMENTARY INFORMATION: On April 4, 2024, NMFS published a final rule approving changes to the Pacific halibut Area 2A Catch Sharing Plan and implementing recreational (sport) management measures for the 2024 Area 2A recreational fisheries (89 FR 22966), as authorized by the Northern Pacific Halibut Act of 1982 (16 U.S.C. 773-773(k)). The Council's 2024 Catch Sharing Plan provides a recommended framework for NMFS' annual management measures and subarea allocations based on the 2024 Area 2A Pacific halibut catch limit, also known as the fishery constant exploitation yield (FCEY), of 1.47 million pounds (lb; 666.8 metric tons (mt)) set by the IPHC. The Area 2A FCEY and recreational fishery allocations were adopted by the IPHC and were published in the Federal Register on March 18, 2024 (89 FR 19275), after acceptance by the Secretary of State, with concurrence from the Secretary of Commerce, in accordance with 50 CFR 300.62. The final rule published on April 3, 2024 (89 FR 22966), implementing recreational management measures for the 2024 Area 2A Pacific halibut fisheries, stated that if in the event that there is remaining Oregon Central Coast spring all-depth subarea allocation remaining after June 30, NMFS may take inseason action to reopen the fishery, up to 7 days a week, during the month of July.

NMFS has determined that, due to lower than expected landings in the Oregon Central Coast subarea, inseason action to open the spring all-depth recreational fishery 7 days a week in July is warranted at this time to provide additional opportunity for fishery participants to achieve the Area 2A subarea allocations. As stated above, taking inseason action to reopen the Oregon Central Coast spring-all depth fishery and modify fishing season dates is authorized by the final rule (89 FR 22966) and Federal regulations at 50 CFR 300.63(c)(6). After consulting with the Oregon Department of Fish and Wildlife (ODFW) and other appropriate entities, NMFS determined the following inseason action is necessary to meet the management objective of attaining the subarea allocation and is consistent with the inseason management provisions allowing for the modification of recreational fishing periods and recreational fishing days per calendar week. Federal regulations at 50 CFR 300.63(c)(6), allow the NMFS Regional Administrator to modify annual regulations during the season. These inseason provisions allow the Regional Administrator to modify recreational (sport) fishing periods, bag limits, size limits, days per calendar week, and subarea allocations, if it is determined it is necessary to meet the allocation objectives and the action will not result in exceeding the FCEY.

Notice of these additional dates are announced in accordance with Federal regulations at 50 CFR 300.63(c) and also on the NMFS hotline at (206) 526-6667 or (800) 662-9825. Weekly catch monitoring reports for the recreational fishery in Oregon are available on the ODFW website. NMFS will continue to monitor recreational catch obtained via state sampling procedures until NMFS has determined there is not sufficient allocation for another full day of fishing in the Oregon Central Coast spring all-depth fishery, and the area is closed by NMFS, or the season closes on July 31, 2024, whichever is earlier.

Inseason Action

Oregon Central Coast Subarea

Description of the action: This inseason action opens additional fishing days in the Oregon Central Coast subarea. Specifically, this action opens the Oregon Central Coast subarea's spring all-depth fishery 7 days a week from July 1 through July 31, 2024, or until there is not sufficient subarea allocation for another full day of fishing and the area is closed.

Reason for the action: The purpose of this inseason action is to provide additional opportunity for anglers in the Oregon Central Coast subarea to achieve the subarea allocation. NMFS has determined that additional fishing days are warranted due to lower than expected landings from smaller than anticipated halibut being caught and poor weather conditions from May through early-June. The expectation is that a substantial amount of the Oregon combined allocation will go unharvested without the spring all-depth fishery open in the month of July. The recreational fishery in this subarea opened on May 1, 2024, and as of early-June, anglers in the Oregon Central Coast subarea's spring all-depth fishery have only harvested 57,540 lb (26.1 mt) of the 167,681 lb (76 mt) spring all-depth fishery allocation (34.3 percent), leaving 110,141 lb (49.6 mt) remaining (65.7 percent of the spring all-depth and 21.6 percent of the overall Oregon Central Coast subarea allocation of 266,161 lb (120.7 mt)). Additionally, ODFW reported to NMFS that the average weight of individual halibut caught by anglers in the Central Oregon Coast subarea spring all-depth season in 2024 is 13.5 lb (0.0061 mt) compared to 16.0 lbs (0.0073 mt) in 2023, 15.2 lb (0.069 mt) in 2022 and 14.2 lb (0.0064 mt) in 2021. During pre-season planning, projections used to develop Oregon Central Coast's season structure were based on the average weight caught by anglers being similar to that of what was observed in 2023, in anticipation of larger fish from the 2012-year class recruiting to the fishery. However, results from sampling efforts, to date, indicate there has been an approximately 16 percent reduction in average weight caught in 2024 compared to average weight caught in 2023, possibly due to a younger year class recruiting to the fishery. Further, it was reported by ODFW that Oregon Central Coast experienced stronger spring winds in 2024 compared to 2023, limiting the number of days anglers were able to fish for Pacific halibut offshore. These two factors, low average weight and poor weather conditions, likely have contributed to the lower catches seen in the Oregon Central Coast subarea.

After consulting with ODFW, it was determined that in order for anglers to have the opportunity to achieve the overall Central Coast subarea allocation, with little risk of the subarea, state, or coastwide allocation being exceeded, opening the spring all-depth fishery for the month of July is warranted. Therefore, through this action, NMFS is announcing the opening of Oregon Central Coast subarea's spring all-depth fishery, up to 7 days a week, during the month of July, as noticed in the April 4, 2024 final rule (89 FR 22966).

Notice of these additional dates are announced in accordance with Federal regulations at 50 CFR 300.63(c) and also on the NMFS hotline at (206) 526-6667 or (800) 662-9825.

Classification

NMFS issues this action pursuant to the Northern Pacific Halibut Act of 1982. This action is taken under the regulatory authority at 50 CFR 300.63(c)(6), and is exempt from review under Executive Order 12866.

Pursuant to 5 U.S.C. 553(b)(3)(B), and consistent with 50 CFR 300.63(c)(6)(B), there is good cause to waive prior notice and an opportunity for public comment on this action, as notice and comment would be impracticable and contrary to the public interest. ODFW provided updated Pacific halibut landings data to NMFS on June 13, 2024, showing that through June 9, fishery participants in the Oregon Central Coast subarea's spring all-depth fishery off the had caught only 34.3 percent of the spring all-depth fishery allocation, which is only 21.6 percent of the total Oregon Central Coast subarea allocation, and 21.1 percent of the total Oregon recreational allocation. NMFS uses fishing rates from previous years to determine the number of recreational fishing dates needed to attain subarea allocations. Given the lower than expected catch rates in the Oregon Central Coast subarea, additional dates are considered necessary to increase angler opportunity to reach the overall Oregon Central Coast subarea allocation. This action should be implemented as soon as possible to allow Oregon Central Coast subarea's spring all-depth fishery participants to be able to plan for and take advantage of the additional season dates. As the Oregon Central Coast subarea's spring all-depth fishery closes on June 30, 2024, implementing this action through proposed and final rulemaking would limit the benefit this action would provide to fishery participants. Without implementation of additional season dates for the Oregon Central Coast, the Oregon allocations are unlikely to be harvested, limiting economic benefits to the participants and not meeting the goals of the 2024 Catch Sharing Plan. It is necessary that this rulemaking be implemented in a timely manner so that planning for additional season dates can take place, and for business and personal decision making by the regulated public impacted by this action, which includes recreational charter fishing operations, associated port businesses, and private anglers who do not live near the coastal access points for this fishery, among others. To ensure the regulated public is fully aware of this action, notice of this regulatory action will also be provided to anglers through a telephone hotline, news release, and by ODFW. NMFS will receive public comments for 15 days after publication of this action, in accordance with 50 CFR 300.63(c)(6)(iv). No aspect of this action is controversial, and changes of this nature were anticipated in the process described in regulations at 50 CFR 300.63(c).

For the reasons discussed above, there is also good cause under 5 U.S.C. 553(d)(3) to waive the 30-day delay in effective date and make this action effective immediately upon filing for public inspection, as a delay in effectiveness of this action would constrain fishing opportunity and be inconsistent with the goals of the 2024 Catch Sharing Plan, as well as potentially limit the economic opportunity intended by this rule to the associated fishing communities. This inseason action is not expected to result in exceeding the allocation for the Oregon Central Coast subarea. NMFS regulations allow the Regional Administrator to modify sport fishing periods, bag limits, size limits, days per calendar week, and subarea allocations, provided that the action allows allocation objectives to be met and will not result in exceeding the catch limit for the subarea. NMFS recently received information on the progress of landings in the recreational fisheries in the Oregon subareas, indicating additional fishing dates in Oregon should be implemented in the fishery this season to ensure optimal harvest of the subarea allocations. As stated above, it is in the public interest that this action is not delayed, because a delay in the effectiveness of these new dates would not allow the allocation objectives of the recreational Pacific halibut fishery to be met.

Authority: 16 U.S.C. 773-773k.

Dated: June 20, 2024.
Karen H. Abrams,
Acting Director, Office of Sustainable Fisheries, National Marine Fisheries Service.

[FR Doc. 2024-13985 Filed 6-25-24; 8:45 am]

BILLING CODE 3510-22-P